DEPARTMENT OF THE INTERIOR

National Park Service

60-Day Notice of Intention To Request Clearance of Collection of Information; Opportunity for Public Comment

AGENCY: Department of the Interior, National Park Service.

ACTION: Notice and request for comments.

SUMMARY: Under provisions of the Paperwork Reduction Act of 1995 and 5 CFR Part 1320, Reporting and Record Keeping Requirements, the National Park Service (NPS) invites comments on a proposed new collection of information (OMB # 1024-XXXX).

DATES: Public comments will be accepted on or before February 5, 2007.

ADDRESSES: Send Comments To: Patricia A. Taylor, Ph.D. (Professor, Departments of Statistics and Sociology, and WYSAC Faculty Affiliate)—University of Wyoming, Department of Sociology/Dept. 3293 or Dept of Statistics/Dept. 3332, 1000 E. University Ave., Laramie, Wyoming 82071; gaia@uwvo.edu; (307) 766-6870 (office direct line), (307) 766-4229 (Statistics office).

To Request a Draft of Proposed Collection of Information Contact: Patricia A. Taylor, Ph.D. (Professor, Departments of Statistics and Sociology, and WYSAC Faculty Affiliate)—University of Wyoming, Department of Sociology/Dept. 3293 or Dept of Statistics/Dept. 3332, 1000 E. University Ave., Laramie, Wyoming 82071; gaia@uwvo.edu; (307) 766-6870 (office direct line), (307) 766-4229 (Statistics office).

FOR FURTHER INFORMATION CONTACT: James Gramann, Social Science Program, National Park Service, 1201 Eye Street, NW (2300), Washington, DC 20005; Phone 202-513-7189; E-mail igramann@tamu.edu

SUPPLEMENTARY INFORMATION: Title: 2007 National Park Service Comprehensive Survey of the American Public.

Bureau Form Number: None.

OMB Number: To be requested.

Expiration Date: To be requested.

Type of Request: New collection.

Description of Need: The NPS conducted its last comprehensive survey of the American public in 2000. That survey provided valuable information on patterns of use and non-use of parks and on the demographic characteristics of visitors and non-visitors that have been used to inform NPS decision-making. However, since 2000 many events and actions have occurred with the potential to affect the public's knowledge, behavior, and opinions regarding the NPS and the National Park System. Examples include the terrorist attacks of September 11, 2001, higher fuel prices, and several catastrophic hurricanes and wildfires. In addition, the U.S. population has aged and become more racially and ethnically diverse since the last comprehensive survey. Although the NPS and its research partners regularly survey visitors to selected National Park System units, these separate surveys cannot be rolled up into a description of visitors at the national and regional levels, nor do they describe the knowledge, attitudes, and behaviors of non-visitors and former visitors. Furthermore, individual park visitor surveys are not able to show trends in the knowledge, opinions, and behavior of the U.S. population over time. This information is essential to informing many important planning and management decisions of the NPS, ranging from visitor services, fee policy, and resource management actions to civic engagement and visitors and non-visitors over time can also provide a perspective on how national and regional populations are changing in their knowledge of the National Park System and in their use of parks, including leisure travel patterns, perceived service quality, and constraints to park visitation.

The method of information collection for the 2007 survey will be a nationwide telephone survey of households conducted using a random-digit-dial (RDD) telephone sample, disproportionately stratified by the seven NPS administrative regions (including the states of Alaska and Hawaii). In each of the seven regions, 500 completed interviews of about 15 minutes length will be obtained, for a total of 3,500 completions.

The data collected from the comprehensive survey will profile patterns in visitation and non-visitation to the National Park System. These findings will be described in a national technical report and in reports for each of the seven NPS regions. Thematic reports on specific policy and management issues included in the survey will be produced, and a summary report tracking changes in key variables between 2000 and 2007 will be written.

Response rates to telephone surveys have been declining. Therefore, it is probable that future NPS surveys of the American public will shift from telephone interviewing to a mail response or to a combination of response modes. Changes in response mode from telephone to mail can affect answers to survey questions. Because the NPS comprehensive survey tracks several ``core'' variables over time, it is important to know if measured changes in these variables are due to a switch in response modes or to real changes in the variables. To understand how response mode affects answers to core questions, the NPS will compare the telephone mode of survey administration with a paper and pencil self-administration. This test will utilize an additional sample of 4,000 listed mailing addresses with associated phone numbers (screened to eliminate numbers that duplicate numbers in the RDD sample) and randomly split in half.

A short-form questionnaire including a few core variables from the full survey, such as visitation patterns and demographics, will be used for this test. One-half of the sample will be administered as a phone survey. The other half will be sent a printed version of the short-form questionnaire. The project anticipates obtaining 1,000 completed questionnaires from each of the two response modes, for an additional 2,000 short interviews beyond the 3,500 completed for the main telephone survey. A report on response-mode effects on survey interviewing will be produced, including mode effects on response rates, non-response bias, the demographic characteristics of respondents, item non-response, and substantive responses to core variables.

Comments are invited on: (1) The practical utility of the information being gathered; (2) the accuracy of the burden hour estimate; (3) ways to enhance the quality, utility, and clarity of the information to be collected; and (4) ways to minimize the burden to respondents, including use of automated information collection techniques or other forms of information technology. Before including your address, phone number, e-mail address, or other identifying information in your comment, you should be aware that your entire comment—including your personal identifying information—may be made publicly available at any time. While you can ask us in your comment to withhold your personal identifying information from public review, we cannot guarantee that we will be able to do so.

Automated data collection: This information will be primarily collected via telephone interviews. Some information will be collected through paper and pencil, self-administered mail-back surveys. No automated data collection will take place.

Description of respondents: Residents of the United States of America in the seven administrative regions of National Park Service.

Estimated average number of respondents: 5,500 (3,500 for the main telephone survey and 2,000 for the response-mode test).

Estimated average number of responses: 5,500.

Estimated average burden hours per response: 10 minutes.

Frequency of response: 1 time per respondent.

Estimated annual reporting burden: 1,100 hours.

Dated: November 29, 2006.
Leonard E. Stowe,
NPS, Information Collection Clearance Officer.

[FR Doc. 06-9538 Filed 12-5-06; 8:45 am]

BILLING CODE 4310-EJ-M